DEPARTMENT OF ENERGY

Federal Energy Regulatory Commission

Combined Notice of Filings #2

Take notice that the Commission received the following electric corporate filings:

Docket Numbers: EC14-145-000.

Applicants: American Transmission Company LLC.

Description: Application of American Transmission Company LLC for Authority to Acquire Transmission Facilities Under Section 203 of the Federal Power Act.

Filed Date: 9/16/14.

Accession Number: 20140916-5131.

Comments Due: 5 p.m. ET 10/7/14.

Take notice that the Commission received the following exempt wholesale generator filings:

Docket Numbers: EG14-105-000.

Applicants: Indeck Wharton LLC.

Description: Self-Certification as Exempt Wholesale Generator of Indeck Wharton LLC.

Filed Date: 9/16/14.

Accession Number: 20140916-5203.

Comments Due: 5 p.m. ET 10/7/14.

Take notice that the Commission received the following electric rate filings:

Docket Numbers: ER12-303-000.

Applicants: Virginia Electric and Power Company, Dominion Marketing Affiliates.

Description: Change in Status Nuclear Waiver of Dominion Resources Services, Inc.

Filed Date: 9/16/14.

Accession Number: 20140916-5130.

Comments Due: 5 p.m. ET 10/7/14.

Docket Numbers: ER14-1386-003; ER14-2484-001; ER14-2834-001.

Applicants: California Independent System Operator Corporation.

Description: California Independent System Operator Corporation Motion to Modify Effective Date of Tariff Revisions, Request for Shortened Response Time, and Request for Limited Waiver.

Filed Date: 9/16/14.

Accession Number: 20140916-5140.

Comments Due: 5 p.m. ET 10/7/14.

Docket Numbers: ER14-2518-001.

Applicants: New York Independent System Operator, Inc.

Description: Tariff Amendment per 35.17(b): NYISO filing: change outage states effective date from 11/1/14 to 2/1/15 to be effective 2/1/2015.

Filed Date: 9/16/14.

Accession Number: 20140916-5144.

Comments Due: 5 p.m. ET 10/7/14.

Docket Numbers: ER14-2597-001.

Applicants: Town of Hanover.

Description: Tariff Amendment per 35.17(b): Amended MBR Tariff Application to be effective 10/15/2014.

Filed Date: 9/16/14.

Accession Number: 20140916-5132.

Comments Due: 5 p.m. ET 10/7/14.

Docket Numbers: ER14-2888-000.

Applicants: Mississippi Power Company.

Description: § 205(d) rate filing per 35.13(a)(2)(iii): PBOP 2014 Filing to be effective 1/1/2014.

Filed Date: 9/16/14.

Accession Number: 20140916-5162.

Comments Due: 5 p.m. ET 10/7/14.

Docket Numbers: ER14-2889-000.

Applicants: Georgia Power Company.

Description: § 205(d) rate filing per 35.13(a)(2)(iii): 2014 PBOP Filing to be effective 1/1/2014.

Filed Date: 9/16/14.

Accession Number: 20140916-5163.

Comments Due: 5 p.m. ET 10/7/14.

Docket Numbers: ER14-2890-000.

Applicants: Southern Electric Generating Company.

Description: § 205(d) rate filing per 35.13(a)(2)(iii): SEGCO 2014 PBOP Filing to be effective 1/1/2014.

Filed Date: 9/16/14.

Accession Number: 20140916-5164.

Comments Due: 5 p.m. ET 10/7/14.

Docket Numbers: ER14-2891-000.

Applicants: Southwest Power Pool, Inc.

Description: § 205(d) rate filing per 35.13(a)(2)(iii): 1606R1 American Electric Power NITSA and NOA to be effective 6/20/2014.

Filed Date: 9/16/14.

Accession Number: 20140916-5197.

Comments Due: 5 p.m. ET 10/7/14.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 16, 2014.
Nathaniel J. Davis, Sr.,
Deputy Secretary.

[FR Doc. 2014-22582 Filed 9-22-14; 8:45 am]

BILLING CODE 6717-01-P